DEPARTMENT OF ENERGY

Secretary of Energy Advisory Board; Notice of Open Meeting Correction

AGENCY: Department of Energy.

ACTION: Notice of open meeting correction.

On November 28, 2000, the Department of Energy published a notice of open meeting announcing a meeting of the Secretary of Energy Advisory Board in Washington, DC (65 FR 70890). In that notice, the meeting was scheduled for Thursday, December 14, 2000, 10:00 a.m.-2:00 p.m., at the U.S. Department of Energy, Program Review Center (Room 8E-089), Forrestal Building, 1000 Independence Avenue, SW, Washington, DC 20585. Today's notice announces that, due to scheduling conflicts, the noticed meeting will be conducted as an open teleconference meeting. The open teleconference meeting will be conducted during the previously announced time period, 10:00 a.m.-2:00 p.m. Eastern Standard Time. Public participants may call the Office of the Secretary of Energy Advisory Board at (202) 586-7092 to reserve a teleconference line and receive a call-in number. Public participation is welcomed. However, the number of teleconference lines are limited and are available on a first come basis.

Issued at Washington, DC, on December 7, 2000.
Rachel M. Samuel,
Deputy Advisory Committee Management Officer.

[FR Doc. 00-31711 Filed 12-11-00; 8:45 am]

BILLING CODE 6450-01-P